DEPARTMENT OF COMMERCE

National Oceanic and Atmospheric Administration

RIN 0648-XG72

Marine Mammals; File No. 10095

AGENCY: National Marine Fisheries Service (NMFS), National Oceanic and Atmospheric Administration (NOAA), Commerce.

ACTION: Notice; issuance of permit.

SUMMARY: Notice is hereby given that the North Carolina Zoological Park, 4401 Zoo Parkway, Asheboro, NC 27205, has been issued a permit to import two juvenile harbor seals (Phoca vitulina) for the purposes of public display.

ADDRESSES: The permit and related documents are available for review upon written request or by appointment in the following office(s):

Permits, Conservation and Education Division, Office of Protected Resources, NMFS, 1315 East-West Highway, Room 13705, Silver Spring, MD 20910; phone (301)713-2289; fax (301)427-2521; and

Southeast Region, NMFS, 263 13th Avenue South, Saint Petersburg, FL 33701; phone (727)824-5312; fax (727)824-5309.

FOR FURTHER INFORMATION CONTACT: Jennifer Skidmore or Kate Swails, (301)713-2289.

SUPPLEMENTARY INFORMATION: On December 21, 2007, notice was published in the Federal Register (72 FR 72674) that a request for a public display permit to import two male captive-born juvenile harbor seals (Phoca vitulina) from the New Brunswick Aquarium and Marine Center, Shippagan, New Brunswick, Canada to the North Carolina Zoological Park, had been submitted by the above-named organization. The requested permit has been issued under the authority of the Marine Mammal Protection Act of 1972, as amended (16 U.S.C. 1361 et seq.), the regulations governing the taking and importing of marine mammals (50 CFR part 216).

In compliance with the National Environmental Policy Act of 1969 (42 U.S.C. 4321 et seq.), a final determination has been made that the activity proposed is categorically excluded from the requirement to prepare an environmental assessment or environmental impact statement.

Dated: March 31, 2008.
P. Michael Payne,
Chief, Permits, Conservation and Education Division, Office of Protected Resources, National Marine Fisheries Service.

[FR Doc. E8-7022 Filed 4-3-08; 8:45 am]

BILLING CODE 3510-22-S